DEPARTMENT OF STATE

[Public Notice: 10080]

Notice of Public Meeting

The Department of State will conduct an open meeting at 10:30 a.m. on Thursday, September 14, 2017, in U.S. Coast Guard Headquarters, 2703 Martin Luther King Jr. Ave. SE., Stop 7509, Washington, DC 20593-7509, Room 5Y23-21. The primary purpose of the meeting is to prepare for the fourth Session of the International Maritime Organization's (IMO) Sub-Committee on Implementation of IMO Instruments (III 4) to be held at the IMO Headquarters, London, United Kingdom, on September 25-29, 2017.

The agenda items to be considered include:

—Decisions of other IMO bodies;

—Consideration and analysis of reports on alleged inadequacy of port reception facilities;

—Lessons learned and safety issues identified from the analysis of marine safety investigation reports;

—Measures to harmonize port state control (PSC) activities and procedures worldwide;

—Identified issues related to the implementation of IMO instruments from the analysis of PSC data;

—Analysis of consolidated audit summary reports;

—Updated survey guidelines under the Harmonized System of Survey and Certification (HSSC);

—Non-exhaustive list of obligations under the instruments relevant to the IMO Instruments Implementation Code (III Code);

—Unified interpretation of provisions of IMO safety, security, and environment related conventions; and

—Review the Model Agreement for the authorization of recognized organizations acting on behalf of the Administration.

Members of the public may attend this meeting up to the seating capacity of the room. Upon request to the meeting coordinator, members of the public may also participate via teleconference, up to the capacity of the teleconference phone line. Please contact the meeting coordinator for additional details if you plan to participate by phone. In order to ensure reasonable accommodation for the full number of meeting participants, those who plan to attend should contact the meeting coordinator, Mr. Chris Gagnon, by email at Christopher.J.Gagnon@uscg.mil, by phone at (202) 372-1231, or in writing at 2703 Martin Luther King Jr. Ave. SE. , Stop 7509, Washington, DC 20593-7509 not later than September 8, 2017. Requests made after September 8, 2017 might not be able to be accommodated. Please note that due to security considerations, two valid, government issued photo identifications must be presented to gain entrance to the Coast Guard Headquarters building. It is recommended that attendees arrive to the Headquarters building no later than 30 minutes ahead of the scheduled meeting for the security screening process.

The Headquarters building is accessible by taxi and public transportation. Parking in the vicinity of the building is extremely limited and not guaranteed.

Joel C. Coito,
Coast Guard Liaison Officer, Office of Ocean and Polar Affairs, Department of State.

[FR Doc. 2017-16768 Filed 8-8-17; 8:45 am]

BILLING CODE 4710-09-P